DEPARTMENT OF HOUSING AND URBAN DEVELOPMENT

[Docket No. FR-4976-N-01]

Notice of Proposed Information Collection: Healthy Homes and Lead Hazard Control Grant Programs Data Collection—Electronic Quarterly Progress Reporting

AGENCY: Office of Healthy Homes and Lead Hazard Control, HUD.

ACTION: Notice.

SUMMARY: The revised information collection requirement described below will be submitted to the Office of Management and Budget (OMB) for review, as required by the Paperwork Reduction Act. The Department is soliciting public comments on the subject proposals.

DATES: Comments Due Date: July 5, 2005.

ADDRESSES: Interested persons are invited to submit comments regarding this proposal. Comments should refer to the proposal by name and/or OMB Control Number and should be sent to: Gail Ward, Reports Liaison Officer, Department of Housing and Urban Development, 451 7th Street, SW., Room P-3206, Washington, DC 20410.

FOR FURTHER INFORMATION CONTACT: Dr. Warren Friedman at (202) 755-1785, ext. 159 (this is not a toll-free number).

Hearing- or speech-impaired persons may access the number above via TTY by calling the toll-free Federal Information Relay Service at 1-800-877-8339.

SUPPLEMENTARY INFORMATION: The Department is submitting the revised information collection to OMB for review, as required by the Paperwork Reduction Act of 1995 (44 U.S.C.—Chapter 35, as amended).

This Notice is soliciting comments from members of the public and affected agencies concerning the proposed collection of information to: (1) Evaluate whether the revised collection of information is necessary for the proper performance of the functions of the agency, including whether the information will have practical utility; (2) evaluate the accuracy of the agency's estimate of the burden of the revised collection of information; (3) enhance the quality, utility, and clarity of the information to be collected; and (4) minimize the burden of the collection of information on those who are to respond; including through the use of appropriate automated collection techniques or other forms of information technology, e.g., permitting electronic submission of responses.

This notice also lists the following information:

Title of Proposal: Healthy Homes and Lead Hazard Control Grant Programs Data Collection—Electronic Quarterly Progress Reporting.

OMB Control Number: To be assigned.

Need for the Information and Proposed Use: This data collection is designed to provide timely information to HUD regarding the implementation progress of the grantees on carrying out Healthy Homes and Lead Hazard Control Grant Programs. The information collection will also be used to provide Congress with status reports as required by the Residential Lead-Based Paint Hazard Reduction Act (Title X of the Housing and Community Development Act of 1992).

This data collection is intended to obtain information specific to each of the grant programs of the Office of Healthy Homes and Lead Hazard Control. This refines the approach used previously, under OMB Control Number 2538-0008, which covered both lead hazard control and healthy homes grant programs, used the Lead Hazard Control Grantee Quarterly Program Report for all grant programs. Under the new data collection, the reporting for each grant program will be tailored to reflect the data most relevant to its individual operating procedures and enable respondents in each program to focus their attention on information specific to their program. The other significant difference from the previous data collection is an increase in the number of respondents from 210 to 300 to reflect the gradual increase in the number of grantees participating in HUD's healthy homes and lead hazard control grant programs (255 as of March 31, 2005). With the number of hours per response remaining at 8 hours, and the responses required quarterly, the total annual hours is adjusted from 6,720, to 9,600. Based on experience under the previous collection, the Department expects that at least 99% of responses under this collection will be electronic.

Agency Form Numbers: To be assigned.

Members of Affected Public: State, tribal, local governments, not-for-profit institutions and for-profit firms located in the U.S. and its territories.

Total Burden Estimate: Number of respondents = 300; Frequency of response = 4; Hours of response = 8; Total Burden Hours = 9,600.

Status of the Proposed Information Collection: New collection.

Additional Information: The obligation to respond to this information collection is mandatory.

Authority: Section 3506 of the Paperwork Reduction Act of 1995, 44 U.S.C. Chapter 35, as amended.

Dated: April 27, 2005.
Joseph F. Smith,
Deputy Director, Office of Healthy Homes and Lead Hazard Control.

[FR Doc. 05-8832 Filed 5-3-05; 8:45 am]

BILLING CODE 4210-70-M